DEPARTMENT OF LABOR

Employment and Training Administration

[TA-W-61,721]

Oregon Cutting Systems Group, a Wholly Owned Subsidiary of Blount Inc., Warehouse, Clackamas, OR; Notice of Revised Determination on Reconsideration

On August 31, 2007, the Department issued an Affirmative Determination Regarding Application for Reconsideration for the workers and former workers of Oregon Cutting Systems Group, a wholly owned subsidiary of Blount, Inc., Warehouse, Clackamas, Oregon (the subject facility). The Department's Notice of affirmative determination was published in the Federal Register on September 11, 2007 (72 FR 51846).

The negative determination regarding workers' eligibility to apply for Trade Adjustment Assistance (TAA) and Alternative Trade Adjustment Assistance (ATAA) was issued on June 29, 2007, and the Notice of determination was published in the Federal Register on July 19, 2007 (72 FR 39644). The determination stated that the subject workers performed warehousing activities related to the production of chainsaw chains, bars, and sprockets, and that the production that the workers supported had shifted to a country that is neither a party to a free trade agreement with the United States nor a beneficiary under either the African Growth and Opportunity Act or the Caribbean Basin Economic Recovery Act.

The request for reconsideration alleged that the subject workers not only supported the production but also produced chainsaw chains, bars, and sprockets at the subject facility. The subject facility ceased to operate in March 2007.

During the reconsideration investigation, the Department received information confirming that the subject facility is a warehouse and that the subject workers produced neither chainsaw chains, bars, nor sprockets.

New information obtained during the investigation revealed that the subject facility supported production at domestic, affiliated facilities whose production declined during 2006 (compared to 2005 levels) and during 2007 (compared to 2006 levels), and that the subject firm's reliance on foreign-produced chainsaw chains, bars, and sprockets increased during the period of decreased domestic production.

In accordance with section 246 of the Trade Act of 1974 (26 U.S.C. 2813), as amended, the Department herein presents the results of its investigation regarding certification of eligibility to apply for ATAA.

The Department has determined in this case that the group eligibility requirements of section 246 have been met.

A significant number of workers at the firm are age 50 or over and possess skills that are not easily transferable. Competitive conditions within the industry are adverse.

Conclusion

After careful review of the information obtained in the reconsideration investigation, I determine that the subject workers' separations were caused by the decreased need of their services due to increased imports of articles like or directly competitive with those produced at an affiliated domestic facility that the workers supported.

In accordance with the provisions of the Act, I make the following certification:

All workers of Oregon Cutting Systems Group, a wholly owned subsidiary of Blount, Inc., Warehouse, Clackamas, Oregon, who became totally or partially separated from employment on or after June 19, 2006, through two years from the date of this certification, are eligible to apply for adjustment assistance under section 223 of the Trade Act of 1974, and are eligible to apply for alternative trade adjustment assistance under section 246 of the Trade Act of 1974.

Signed at Washington, DC this 11th day of February 2008.
Elliott S. Kushner,
Certifying Officer, Division of Trade Adjustment Assistance.

[FR Doc. E8-3217 Filed 2-21-08; 8:45 am]

BILLING CODE 4510-FN-P